FEDERAL COMMUNICATIONS COMMISSION

Notice of Public Information Collection(s) Being Reviewed by the Federal Communications Commission

July 16, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before August 22, 2001. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0788.

Title: DTV Showings/Interference Agreements.

Form No.: N/A.

Type of Review: Revision of a currently approved collection.

Respondents: Business or other for-profit and not-for-profit institutions.

Number of Respondents: 350.

Estimated Time Per Response: 5 hours.

Frequency of Response: On occasion reporting requirement, and third party disclosure requirement.

Total Annual Burden: 1,750 hours.

Total Annual Cost: $2,800,000.

Needs and Uses: The technical showings and interference agreements submitted by DTV respondents will be used by FCC staff to determine if the public interest would be served by the grant of the application and to ensure that the proposed facilities will not result in additional interference to other stations. This collection of information has been revised to remove all references to industry frequency coordination committees. These committees did not evolve. Respondents have been using consulting engineers and attorneys to prepare the technical showings and interference agreements.

OMB Control No.: 3060-0979.

Title: Spectrum Audit Letter.

Form No.: N/A.

Type of Review: Extension of a currently approved collection.

Respondents: Business or other for-profit, not-for-profit institutions, and state, local, or tribal government.

Number of Respondents: 300,000.

Estimated Time Per Response: .50 hours.

Frequency of Response: One time reporting requirement.

Total Annual Burden: 150,000 hours.

Total Annual Cost: N/A.

Needs and Uses: The information collected is required for an audit of the construction and operational status of all of the Private Land Mobile Radio (PLMR) and Fixed Microwave Radio (FMR) stations in the Commission's licensing database that are subject to rule-based construction and operational requirements. The Commissions' rules for the PLMR and FMR services require construction within a specified time frame and require a station to remain operational in order for the license to remain valid.

Federal Communications Commission.
William F. Caton,
Deputy Secretary.

[FR Doc. 01-18294 Filed 7-20-01; 8:45 am]

BILLING CODE 6712-01-U